DEPARTMENT OF STATE

[Public Notice 8475]

Advisory Committee on International Postal and Delivery Services; Membership Renewals

AGENCY: Department of State.

ACTION: Notice; Membership renewals.

SUMMARY: The 2006 Postal Accountability and Enhancement Act (Pub. L. 109-435) directed the State Department to create and manage a Federal Advisory Committee to provide advice to State with respect to the formulation, coordination, and oversight of foreign policy related to international postal and private-sector delivery services. The Advisory Committee on International Postal and Delivery Services was created in accordance with the Federal Advisory Committee Act (Pub. L. 92-463).

The Advisory Committee's Charter provides that Committee members should be appointed by the Assistant Secretary of the Department of State's Bureau of International Organization Affairs. It also provides that the term of membership should be two years, except that the Assistant Secretary may, at his or her discretion, remove or replace members at any time, and that members may be reappointed by the Assistant Secretary.

As the two-year terms for the current members of the Advisory Committee will expire in December 2013, the Designated Federal Officer of the Advisory Committee on International Postal and Delivery Services has opened the application process for those interested in becoming members of the Advisory Committee, or in being re-appointed as members.

Requirements: Members of the Advisory Committee on International Postal and Delivery Services attend meetings approximately two to three times per year, located in the Washington, DC metropolitan area. Members of the Committee are users, consultants, providers or experts on international postal and delivery services. Members are not compensated for their service. Members cannot currently be registered federal lobbyists.

Applications: Membership Applications for the Advisory Committee on International Postal and Delivery Services can be obtained online at the Advisory Committee's Web site at www.state.gov/p/io/ipp/c25478.htm. If you have any questions regarding the Advisory Committee or the application process, please contact Helen Grove, GroveHA@state.gov.

Deadline: All applications for membership should be submitted to Mr. Robert Downes, the Designated Federal Officer, by Monday, September 30, close of business. Applications can be sent to Mr. Downes at DownesRR@state.gov, with a copy to Ms. Grove, GroveHA@state.gov.

For further information, please contact Ms. Helen Grove of the Office of Global Systems (IO/GS), Bureau of International Organization Affairs, U.S. Department of State, at (202) 647-1044 or by email at GroveHA@state.gov.

Dated: September 10, 2013.
Robert Downes,
Designated Federal Officer, Department of State.

[FR Doc. 2013-22815 Filed 9-18-13; 8:45 am]

BILLING CODE 4710-19-P